COMMITTEE FOR PURCHASE FROM PEOPLE WHO ARE BLIND OR SEVERELY DISABLED

Procurement List Proposed Deletions

AGENCY: Committee for Purchase From People Who Are Blind or Severely Disabled.

ACTION: Proposed deletions from the procurement list.

SUMMARY: The Committee is proposing to delete products and services previously furnished by nonprofit agencies employing persons who are blind or have other severe disabilities.

DATES: Comments must be received on or before: November 13, 2016.

ADDRESSES: Committee for Purchase From People Who Are Blind or Severely Disabled, 1401 S. Clark Street, Suite 715, Arlington, Virginia, 22202-4149.

FOR FURTHER INFORMATION CONTACT: For further information or to submit comments contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s): 8340-01-026-6096—Shelter Half, Tent, Complete

Mandatory Source(s) of Supply: ORC Industries, Inc., La Crosse, WI

Contracting Activity: Defense Logistics Agency Troop Support

NSN(s)—Product Name(s): 7510-01-600-8030—Dated 2016 12-Month 2-Sided Laminated Wall Planner, 24″ × 37″

Mandatory Source(s) of Supply: Chicago Lighthouse Industries, Chicago, IL

Contracting Activity: General Services Administration, Philadelphia, PA

NSN(s)—Product Name(s): 7510-01-600-8036—Dated 2016 18-month Paper Wall Planner, 24″ × 37″

Mandatory Source(s) of Supply: Chicago Lighthouse for People Who Are Blind or Visually Impaired, Chicago, IL

Contracting Activity: General Services Administration, Philadelphia, PA

NSN(s)—Product Name(s):

7530-01-600-7573—Daily Desk Planner, Dated 2016, Wire bound, Non-refillable, Black Cover

7530-01-600-7591—Weekly Desk Planner, Dated 2016, Wire Bound, Non-refillable, Black Cover

7530-01-600-7599—Weekly Planner Book, Dated 2016, 5″ × 8″, Black

7530-01-600-7607—Monthly Desk Planner, Dated 2016, Wire Bound, Non-refillable, Black Cover

7510-01-600-7562—Monthly Wall Calendar, Dated 2016, Jan-Dec, 8-1/2″ × 11″

7510-01-600-7614—Wall Calendar, Dated 2016, Wire Bound w/Hanger, 12″ × 17″

7510-01-600-7632—Wall Calendar, Dated 2016, Wire Bound w/hanger, 15.5″ × 22″

Mandatory Source(s) of Supply: Chicago Lighthouse Industries, Chicago, IL

Contracting Activity: General Services Administration, New York, NY

Services

Service Type: Grounds Maintenance Service

Mandatory for: U.S. Army Reserve Center: AMSA 68(G) 42 Albion Road, Lincoln, RI

Mandatory Source(s) of Supply: The Fogarty Center, North Providence, RI

Contracting Activity: Dept of the Army, W40M NORTHEREGION Contract OFC

Service Type: Janitorial/Custodial Service

Mandatory for: U.S. Army, AMSA 163 (BMA) 48 Albion Rd, Lincoln, RI

Mandatory Source(s) of Supply: The Fogarty Center, North Providence, RI

Contracting Activity: Dept of the Army, W6QK ACC-PICA

Service Type: Operation of Postal Service Center

Mandatory for: Robins Air Force Base, Robins AFB, GA

Mandatory Source(s) of Supply: Good Vocations, Inc., Macon, GA

Contracting Activity: Dept of the Air Force, FA8501 AFSC PZIO

Barry S. Lineback,
Director, Business Operations.

[FR Doc. 2016-24898 Filed 10-13-16; 8:45 am]

BILLING CODE 6353-01-P